DEPARTMENT OF HOMELAND SECURITY

Coast Guard

33 CFR Part 126

[USCG-1998-4302]

RIN 1625-AA07 (Formerly RIN 2115-AE22)

Handling of Class 1 (Explosive) Materials or Other Dangerous Cargoes Within or Contiguous to Waterfront Facilities

AGENCY: Coast Guard, DHS.

ACTION: Final rule; announcement of effective date.

SUMMARY: In the final rule with this same title published September 26, 2003, we noted that the Office of Management and Budget (OMB) had not approved a collection of information associated with our requirement that owners or operators of waterfront facilities desiring to handle packaged and bulk-solid dangerous cargo must post warning signs constructed and installed according to National Fire Protection Association (NFPA) 307, chapter 7-8.7. OMB has since approved that collection of information and the portion of the rule with this requirement will become effective March 1, 2004.

DATES: 33 CFR 126.15(a)(3), as published September 26, 2003 (68 FR 55436), is effective March 1, 2004.

FOR FURTHER INFORMATION CONTACT: If you have questions on this document, call Brian Robinson, Project Manager, Vessel and Facility Operating Standards Division (G-MSO-3), room 1218, telephone 202-267-0018, e-mail brobinson@comdt.uscg.mil. If you have questions on viewing the docket (USCG-1998-4302), call Andrea M. Jenkins, Program Manager, Docket Operations, Department of Transportation, telephone 202-366-0271.

SUPPLEMENTARY INFORMATION: Section 126.15(a)(3) of title 33 Code of Federal Regulations (CFR) requires owners or operators of all designated waterfront facilities to post warning signs. Posting of warning signs is a collection of information under OMB control no. 1625-0016 (Formerly 2115-0054). The final rule that contained the provisions on warning signs was published in the Federal Register on September 26, 2003 (68 FR 55436), and is available electronically through the docket (USCG-1998-4302) web site at http://dms.dot.gov. It became effective on October 27, 2003, with the exception of 33 CFR 126.15(a)(3).

As required by 44 U.S.C. 3507(d), we submitted a copy of the final rule to OMB for its review on October 6, 2003. On November 17, 2003, after reviewing the rule, OMB approved the collection of information required by this final rule under OMB control no. 1625-0016.

Dated: January 22, 2004.
Howard L. Hime,
Acting Director of Standards, Marine Safety, Security & Environmental Protection.

[FR Doc. 04-1860 Filed 1-28-04; 8:45 am]

BILLING CODE 4910-15-P